DEPARTMENT OF ENERGY

Federal Energy Regulatory Commission

Sunshine Act Meeting

February 16, 2000.

The following notice of meeting is published pursuant to section 3(a) of the Government in the Sunshine Act (Pub. L. No.94-409), 5 U.S.C 552B:

AGENCY HOLDING MEETING: Federal Energy Regulatory Commission.

DATE AND TIME: February 23, 2000, 10 a.m.

PLACE: Room 2C, 888 First Street, NE, Washington, DC 20426.

STATUS: Open.

MATTERS TO BE CONSIDERED: Agenda.

*Note: Items listed on the agenda may be deleted without further notice.

CONTACT PERSON FOR MORE INFORMATION: David P. Boergers,Secretary, Telephone (202) 208-0400. For a recording listing items stricken from or added to the meeting, call (202) 208-1627.

This is a list of matters to be considered by the Commission. It does not include a listing of all papers relevant to the items on the agenda; however, all public documents may be examined in the Reference and Information Center.

Consent Agenda—Hydro; 735th Meeting—February 23, 2000; Regular Meeting (10:00 a.m.)

CAH-1.

DOCKET # P-1388,008,SOUTHERN CALIFORNIA EDISON COMPANY

CAH-2.

DOCKET # P-1389,005,SOUTHERN CALIFORNIA EDISON COMPANY

CAH-3.

DOCKET # P-10536,006,PUBLIC UTILITY DISTRICT NO. 1 OF OKANOGAN COUNTY, WASHINGTON

OTHER #S P-10536, 005,PUBLIC UTILITY DISTRICT NO. 1 OF OKANOGAN COUNTY, WASHINGTON

CAH-4.

DOCKET # P-2058,014,AVISTA CORPORATION

Consent Agenda—Electric

CAE-1.

DOCKET # ER00-902,000,PACIFIC GAS AND ELECTRIC COMPANY

CAE-2.

DOCKET # ER00-939,000,LAKE WORTH GENERATION L.L.C.

OTHER #S ER00-1049,000,CALCASIEU POWER, LLC

ER00-1115,000,CALPINE CONSTRUCTION FINANCE COMPANY, L.P.

CAE-3.

DOCKET # ER00-901,000,ARIZONA PUBLIC SERVICE COMPANY

CAE-4.

DOCKET # ER00-800,000,CALIFORNIA INDEPENDENT SYSTEM OPERATOR CORPORATION

OTHER #S ER00-900,000,PACIFIC GAS AND ELECTRIC COMPANY

CAE-5.

DOCKET # ER00-982,000,CENTRAL MAINE POWER COMPANY

OTHER #S EL00-44,000,CENTRAL MAINE POWER COMPANY

ER99-4534,000,CENTRAL MAINE POWER COMPANY

ER99-238,000,CENTRAL MAINE POWER COMPANY

ER00-604,000,CENTRAL MAINE POWER COMPANY

ER00-26,000,CENTRAL MAINE POWER COMPANY

CAE-6.

DOCKET # ER00-330,000,CONNECTICUT LIGHT & POWER COMPANY AND WESTERN MASSACHUSETTS ELECTRIC COMPANY

CAE-7.

DOCKET # ER00-980,000,BANGOR HYDRO-ELECTRIC COMPANY

CAE-8.

DOCKET # ER00-984,000,NEW ENGLAND POWER POOL

OTHER #S ER00-985,000,NEW ENGLAND POWER POOL

CAE-9.

DOCKET#ER00-971,000, ISO NEW ENGLAND INC.

OTHER#SER00-996,000, ISO NEW ENGLAND INC.

ER00-1035,000, NEW ENGLAND POWER POOL

CAE-10.

DOCKET#ER00-989,000, AEP OPERATING COMPANIES AND CSW OPERATING COMPANIES

CAE-11.

DOCKET#ER00-1014,000, PP&L, INC.

CAE-12.

DOCKET#ER00-951,000, CALIFORNIA POWER EXCHANGE CORPORATION

CAE-13.

DOCKET#ER00-1036,000, DPL ENERGY, INC.

CAE-14.

DOCKET#OA97-122,000, ALLEGHENY POWER SERVICE COMPANY

OTHER#SOA96-28,002, PACIFIC GAS AND ELECTRIC COMPANY

OA96-64,001, DAYTON POWER & LIGHT COMPANY

OA96-73,001, FLORIDA POWER CORPORATION

OA96-75,000, BLACK HILLS POWER & LIGHT COMPANY

OA96-78,000, DETROIT EDISON COMPANY

OA96-122,001, MAINE PUBLIC SERVICE COMPANY

OA96-122,002, MAINE PUBLIC SERVICE COMPANY

OA96-122,003, MAINE PUBLIC SERVICE COMPANY

OA96-124,000, CENTRAL MAINE POWER COMPANY

OA96-126,000, OHIO VALLEY ELECTRIC CORPORATION

OA96-138,002, CONSOLIDATED EDISON COMPANY OF NEW YORK, INC.

OA96-153,003, ARIZONA PUBLIC SERVICE COMPANY

OA96-158,001, ENTERGY SERVICES, INC.

OA96-158,002, ENTERGY SERVICES, INC.

OA96-163,002, LOCKHART POWER COMPANY

OA96-184,001, CITIZENS UTILITIES COMPANY

OA96-198,003, CAROLINA POWER & LIGHT COMPANY

OA96-203,001, WESTERN RESOURCES, INC.

OA96-210,002, ORANGE AND ROCKLAND UTILITIES, INC.

OA96-227,000, BALTIMORE GAS & ELECTRIC COMPANY

OA97-7,000, VERMONT ELECTRIC POWER COMPANY

OA97-20,000, WASHINGTON WATER POWER COMPANY

OA97-21,000, WASHINGTON WATER POWER COMPANY

OA97-111,000, CINERGY SERVICES, INC.

OA97-112,000, CINERGY SERVICES, INC.

OA97-124,000, CINERGY SERVICES, INC.

OA97-131,000, DAYTON POWER & LIGHT COMPANY

OA97-132,000, DAYTON POWER & LIGHT COMPANY

OA97-133,000, DAYTON POWER & LIGHT COMPANY

OA97-134,000, DAYTON POWER & LIGHT COMPANY

OA97-138,000, DAYTON POWER & LIGHT COMPANY

OA97-140,000, SEMINOLE ELECTRIC COOPERATIVE, INC.

OA97-141,000, CLEVELAND ELECTRIC ILLUMINATING COMPANY

OA97-142,000, DAYTON POWER & LIGHT COMPANY

OA97-190,000, WISCONSIN POWER AND LIGHT COMPANY

OA97-194,000, MINNESOTA POWER & LIGHT COMPANY

OA97-195,000, DUQUESNE LIGHT COMPANY

OA97-211,000, MID CONTINENT AREA POOL

OA97-215,000, SOUTHERN COMPANY SERVICES, INC.

OA97-221,000, DUQUESNE LIGHT COMPANY

OA97-245,000, FLORIDA POWER & LIGHT COMPANY

OA97-250,000, PORTLAND GENERAL ELECTRIC COMPANY

OA97-259,000, CONSUMERS ENERGY COMPANY

OA97-263,000, CENTRAL POWER & LIGHT COMPANY

OA97-266,000, CENTRAL MAINE POWER COMPANY

OA97-270,000, ENTERGY SERVICES, INC.

OA97-274,000, DAYTON POWER & LIGHT COMPANY

OA97-282,000, CENTRAL LOUISIANA ELECTRIC COMPANY

OA97-288,000, CENTRAL POWER & LIGHT COMPANY

OA97-300,000, NORTHEAST UTILITIES SERVICE COMPANY

OA97-307,000, MONTANA POWER COMPANY

OA97-324,000, CENTRAL LOUISIANA ELECTRIC COMPANY

OA97-325,000, CENTRAL LOUISIANA ELECTRIC COMPANY

OA97-326,000, CENTRAL LOUISIANA ELECTRIC COMPANY

OA97-327,000, ENTERGY SERVICES, INC.

OA97-328,000, ENTERGY SERVICES, INC.

OA97-329,000, ENTERGY SERVICES, INC.

OA97-331,000, ENTERGY SERVICES, INC.

OA97-332,000, ENTERGY SERVICES, INC.

OA97-335,000, ENTERGY SERVICES, INC.

OA97-336,000, ENTERGY SERVICES, INC.

OA97-337,000, ENTERGY SERVICES, INC.

OA97-338,000, ENTERGY SERVICES, INC.

OA97-339,000, ENTERGY SERVICES, INC.

OA97-340,000, ENTERGY SERVICES, INC.

OA97-342,000, ENTERGY SERVICES, INC.

OA97-344,000, ENTERGY SERVICES, INC.

OA97-345,000, ENTERGY SERVICES, INC.

OA97-346,000, ENTERGY SERVICES, INC.

OA97-348,000, ENTERGY SERVICES, INC.

OA97-349,000, ENTERGY SERVICES, INC.

OA97-350,000, ENTERGY SERVICES, INC.

OA97-351,000, ENTERGY SERVICES, INC.

OA97-354,000, ENTERGY SERVICES, INC.

OA97-362,000, FLORIDA POWER CORPORATION

OA97-389,000, FLORIDA POWER CORPORATION

OA97-405,000, PACIFICORP

OA97-409,000, WISCONSIN POWER & LIGHT COMPANY

OA97-491,000, CLEVELAND ELECTRIC ILLUMINATING COMPANY

OA97-508,000, CENTRAL VERMONT PUBLIC SERVICE COMPANY

OA97-509,000, NEVADA POWER COMPANY

OA97-528,000, ENTERGY SERVICES, INC.

OA97-555,000, ENTERGY SERVICES, INC.

OA97-563,000, NORTHEAST UTILITIES SERVICE COMPANY

OA97-570,000, ENTERGY SERVICES, INC.

OA97-571,000, NEW ENGLAND POWER POOL

OA97-574,000, ENTERGY SERVICES, INC.

OA97-614,000, ENTERGY SERVICES, INC.

OA97-619,000, PACIFIC GAS AND ELECTRIC COMPANY

OA97-625,000, ENTERGY SERVICES, INC.

OA97-626,000, WESTERN RESOURCES, INC.

OA97-627,000, ENTERGY SERVICES, INC.

OA97-632,000, ENTERGY SERVICES, INC.

OA97-633,000, INTERSTATE POWER COMPANY

OA97-643,000, CITIZENS UTILITIES COMPANY

OA97-646,000, ENTERGY SERVICES, INC.

OA97-657,000, ENTERGY SERVICES, INC.

OA97-668,000, CENTRAL POWER & LIGHT COMPANY

OA97-674,000, BOSTON EDISON COMPANY

OA97-677,000, FLORIDA POWER CORPORATION

OA97-681,000, DETROIT EDISON COMPANY

OA97-686,000, EL PASO ELECTRIC COMPANY

OA97-687,000, NORTHEAST UTILITIES SERVICE COMPANY

OA97-688,000, PENNSYLVANIA POWER & LIGHT COMPANY

OA97-699,000, FLORIDA POWER & LIGHT COMPANY

OA97-703,000, BLACK HILLS POWER & LIGHT COMPANY

OA97-706,000, CENTRAL VERMONT PUBLIC SERVICE COMPANY

OA97-708,000, ORANGE & ROCKLAND UTILITIES, INC.

OA97-712,000, ALLEGHENY POWER SERVICE COMPANY

ER97-3189,009, ATLANTIC CITY ELECTRIC COMPANY

ER97-3189,013, ATLANTIC CITY ELECTRIC COMPANY

CAE-15.

DOCKET#ER00-1026,000, INDIANAPOLIS POWER & LIGHT COMPANY

CAE-16.

DOCKET#ER00-936,000, SOUTHERN ENERGY DELTA, L.L.C.

OTHER#SER00-937,000, SOUTHERN ENERGY POTRERO, L.L.C.

CAE-17.

DOCKET#ER00-934,000, NEW ENGLAND POWER POOL

CAE-18.

DOCKET#ER99-4415,002, ILLINOIS POWER COMPANY

OTHER#SER99-4530,002, ILLINOIS POWER COMPANY

EL00-7,002, ILLINOIS POWER COMPANY

CAE-19.

OMITTED

CAE-20.

DOCKET#ER98-992,000, CALIFORNIA INDEPENDENT SYSTEM OPERATOR CORPORATION

OTHER#SER98-996,000, CALIFORNIA INDEPENDENT SYSTEM OPERATOR CORPORATION

ER98-1002,000, CALIFORNIA INDEPENDENT SYSTEM OPERATOR CORPORATION

ER98-1310,000, CALIFORNIA INDEPENDENT SYSTEM OPERATOR CORPORATION

ER98-1910,000, CALIFORNIA INDEPENDENT SYSTEM OPERATOR CORPORATION

ER98-1912,000, CALIFORNIA INDEPENDENT SYSTEM OPERATOR CORPORATION

ER98-1930,000, CALIFORNIA INDEPENDENT SYSTEM OPERATOR CORPORATION

ER98-1931,000, CALIFORNIA INDEPENDENT SYSTEM OPERATOR CORPORATION

ER98-1933,000, CALIFORNIA INDEPENDENT SYSTEM OPERATOR CORPORATION

ER98-1935,000, CALIFORNIA INDEPENDENT SYSTEMOPERATOR CORPORATION

ER98-2115,000, CALIFORNIA INDEPENDENT SYSTEM OPERATOR CORPORATION

CAE-21.

DOCKET# ER98-1499,000, CALIFORNIA INDEPENDENT SYSTEM OPERATOR CORPORATION

OTHER#S ER98-1500,000, CALIFORNIA INDEPENDENT SYSTEM OPERATOR CORPORATION

ER98-1501,000, CALIFORNIA INDEPENDENT SYSTEM OPERATOR CORPORATION

ER98-1502,000, CALIFORNIA INDEPENDENT SYSTEM OPERATOR CORPORATION

ER98-1503,000, CALIFORNIA INDEPENDENT SYSTEM OPERATOR CORPORATION

ER98-2113,000, CALIFORNIA INDEPENDENT SYSTEM OPERATOR CORPORATION

ER98-2291,000, CALIFORNIA INDEPENDENT SYSTEM OPERATOR CORPORATION

ER98-2292,000, CALIFORNIA INDEPENDENT SYSTEM OPERATOR CORPORATION

ER98-2294,000, CALIFORNIA INDEPENDENT SYSTEM OPERATOR CORPORATION

ER98-2295,000, CALIFORNIA INDEPENDENT SYSTEM OPERATOR CORPORATION

ER98-2647,000, CALIFORNIA INDEPENDENT SYSTEM OPERATOR CORPORATION

ER98-2648,000, CALIFORNIA INDEPENDENT SYSTEM OPERATOR CORPORATION

ER98-2650,000, CALIFORNIA INDEPENDENT SYSTEM OPERATOR CORPORATION

ER98-2947,000, CALIFORNIA INDEPENDENT SYSTEM OPERATOR CORPORATION

ER98-2949,000, CALIFORNIA INDEPENDENT SYSTEM OPERATOR CORPORATION

ER98-2978,000, CALIFORNIA INDEPENDENT SYSTEM OPERATOR CORPORATION

ER98-3017,000, CALIFORNIA INDEPENDENT SYSTEM OPERATOR CORPORATION

ER98-3020,000, CALIFORNIA INDEPENDENT SYSTEM OPERATOR CORPORATION

ER98-3022,000, CALIFORNIA INDEPENDENT SYSTEM OPERATOR CORPORATION

CAE-22.

DOCKET# ER99-1331,000, ILLINOIS POWER COMPANY

CAE-23.

DOCKET# ER99-1378,000, ALLIANT ENERGY CORPORATE SERVICES, INC.

CAE-24.

DOCKET# EL99-10,002, EL PASO ELECTRIC COMPANY

CAE-25.

DOCKET# ER99-723,002, FLORIDA POWER & LIGHT COMPANY

OTHER#S ER99-723,000, FLORIDA POWER & LIGHT COMPANY

CAE-26.

DOCKET# EC96-19,052, CALIFORNIA INDEPENDENT SYSTEM OPERATOR CORPORATION

OTHER#S EC96-19,014, CALIFORNIA INDEPENDENT SYSTEM OPERATOR CORPORATION

EC96-19,015, CALIFORNIA INDEPENDENT SYSTEM OPERATOR CORPORATION

EC96-19,018, CALIFORNIA INDEPENDENT SYSTEM OPERATOR CORPORATION

ER96-1663,015, CALIFORNIA INDEPENDENT SYSTEM OPERATOR CORPORATION

ER96-1663,016, CALIFORNIA INDEPENDENT SYSTEM OPERATOR CORPORATION

ER96-1663,019, CALIFORNIA INDEPENDENT SYSTEM OPERATOR CORPORATION

ER96-1663,055, CALIFORNIA INDEPENDENT SYSTEM OPERATOR CORPORATION

ER98-3760,004, CALIFORNIA INDEPENDENT SYSTEM OPERATOR CORPORATION

CAE-27.

DOCKET# EC00-31,000, PP&L RESOURCES, INC., CEP GROUP, INC.,PP&L GLOBAL, INC., PP&L GENERATION HOLDINGS, LLC AND PPL GENERATION, LLC

OTHER#S EC00-32,000, PP&L RESOURCES, INC., CEP GROUP, INC.,PP&L, INC., PP&L ENERGYPLUS CO., LLC,PPL GENERATION, LLC, PPL MARTINS CREEK,LLC, PPL MONTOUR, LLC, PPL BRUNNER ISLAND,LLC, PPL HOLTWOOD, LLC AND PPL SUSQUEHANNA, LLC

CAE-28.

DOCKET# ER00-553,001, CALIFORNIA POWER EXCHANGE CORPORATION

OTHER#S ER00-618,001, CALIFORNIA POWER EXCHANGE CORPORATION

CAE-29.

DOCKET# ER00-604,001, CENTRAL MAINE POWER COMPANY

OTHER#S ER00-604,002, CENTRAL MAINE POWER COMPANY

CAE-30.

DOCKET# ER99-25,001, PECO ENERGY COMPANY

CAE-31.

DOCKET# ER99-307,001, METROPOLITAN EDISON COMPANY AND PENNSYLVANIA ELECTRIC COMPANY

CAE-32.

DOCKET# TX93-2,008, CITY OF BEDFORD, CITY OF DANVILLE,CITY OF MARTINSVILLE AND TOWN OF RICHLANDS,VIRGINIA AND BLUE RIDGE POWER AGENCY

OTHER#S EL94-59,004, CITY OF BEDFORD, CITY OF DANVILLE,CITY OF MARTINSVILLE AND TOWN OF RICHLANDS,VIRGINIA AND BLUE RIDGE POWER AGENCY V.APPALACHIAN POWER COMPANY

CAE-33.

DOCKET# EL99-57,001, ENTERGY SERVICES, INC.

CAE-34.

DOCKET# ER99-3248,002, CONSOLIDATED EDISON ENERGY MASSACHUSETTS, INC.

CAE-35.

DOCKET# ER99-4514,001, NIAGARA MOHAWK POWER CORPORATION

CAE-36.

OMITTED

CAE-37.

OMITTED

CAE-38.

DOCKET# EL00-12,000, TENNESSEE POWER COMPANY

CAE-39.

DOCKET# EG00-64,000, KILLINGHOLME GENERATION LIMITED

CAE-40.

OMITTED

CAE-41.

DOCKET# OA00-4,000, INDIANAPOLIS POWER AND LIGHT COMPANY

CAE-42.

DOCKET# ER00-865,000, CONSOLIDATED EDISON ENERGY, INC.

CAE-43.

DOCKET# ER00-514,000, SELECT ENERGY, INC.

OTHER#S ER00-952,000, SELECT ENERGY, INC.

ER00-963,000 CONNECTICUT LIGHT AND POWER COMPANY

CAE-44.

DOCKET# EL98-36,000, AQUILA POWER CORPORATION V. ENTERGY SERVICES, INC., ENTERGY ARKANSAS, INC.,ENTERGY LOUISIANA, INC., ENTERGY MISSISSIPPI, INC., ENTERGY NEW ORLEANS, INC. AND ENTERGY GULF STATES,INC.

Consent Agenda—Gas and Oil

CAG-1.

OMITTED

CAG-2.

DOCKET# RP00-169,000, NATURAL GAS PIPELINE COMPANY OF AMERICA

CAG-3.

DOCKET# RP00-173,000, ANR PIPELINE COMPANY

CAG-4.

DOCKET# RP00-170,000, COLUMBIA GAS TRANSMISSION CORPORATION

CAG-5.

DOCKET# RP00-171,000, COLUMBIA GULF TRANSMISSION COMPANY

OTHER# RP00-171,001, COLUMBIA GULF TRANSMISSION COMPANY

CAG-6.

OMITTED

CAG-7.

DOCKET# PR00-1,000, ONEOK FIELD SERVICES COMPANY

CAG-8.

DOCKET# RP96-272,013, NORTHERN NATURAL GAS COMPANY

CAG-9.

DOCKET# RP99-324,000, KOCH GATEWAY PIPELINE COMPANY

CAG-10.

DOCKET# RP99-381,001, WYOMING INTERSTATE COMPANY, LTD.

CAG-11.

DOCKET# RP96-320,026, KOCH GATEWAY PIPELINE COMPANY

CAG-12.

DOCKET# TM99-6-29,000, TRANSCONTINENTAL GAS PIPE LINE CORPORATION

CAG-13.

DOCKET# PR99-13,000, GULF STATES PIPELINE CORPORATION

OTHER#S PR99-13,001 GULF STATES PIPELINE CORPORATION

CAG-14.

DOCKET# RP98-40,022, PANHANDLE EASTERN PIPE LINE COMPANY

CAG-15.

DOCKET# RP97-71,018, TRANSCONTINENTAL GAS PIPE LINE CORPORATION

OTHER#S RP95-197,039, TRANSCONTINENTAL GAS PIPE LINE CORPORATION

CAG-16.

DOCKET# RP99-507,000, AMOCO ENERGY TRADING CORPORATION, AMOCO PRODUCTION COMPANY AND BURLINGTON RESOURCES OIL & GAS COMPANY V. EL PASO NATURAL GAS COMPANY

OTHER#S RP00-139,000, K N MARKETING, L.P. V. EL PASO NATURAL GAS COMPANY

CAG-17.

DOCKET# RP97-57,004, NORAM GAS TRANSMISSION COMPANY

CAG-18.

DOCKET# MG00-3,000, FLORIDA GAS TRANSMISSION COMPANY

OTHER#S MG00-4,000, NORTHERN NATURAL GAS COMPANY

MG00-5,000 NORTHERN BORDER PIPELINE COMPANY

CAG-19.

DOCKET# CP00-24,000, SABINE PIPE LINE COMPANY

OTHER#S CP00-25,000, SABINE PIPE LINE LLC

CAG-20.

DOCKET# CP00-31,000, SHENANDOAH GAS COMPANY AND WASHINGTON GAS LIGHT COMPANY

CAG-21.

DOCKET# CP99-241,000, ANR PIPELINE COMPANY

OTHER#S CP99-241,001, ANR PIPELINE COMPANY

CAG-22.

DOCKET# CP99-541,000, COTTON VALLEY COMPRESSION, L.L.C.

OTHER#S CP99-542,000, COTTON VALLEY COMPRESSION, L.L.C.

CP99-543,000 COTTON VALLEY COMPRESSION, L.L.C.

CAG-23.

DOCKET# CP99-610,000, NATURAL GAS PROCESSING COMPANY

CAG-24.

DOCKET# CP99-94,000, FLORIDA GAS TRANSMISSION COMPANY

OTHER#S RP96-366,011, FLORIDA GAS TRANSMISSION COMPANY

CP99-94 001 FLORIDA GAS TRANSMISSION COMPANY

CAG-25.

DOCKET# CP99-616,000, COLUMBIA GAS TRANSMISSION CORPORATION

OTHER#S CP99-617,000, GATHERCO, INC.

CAG-26.

DOCKET# CP96-152,025, KANSAS PIPELINE COMPANY

CAG-27.

OMITTED

CAG-28.

DOCKET# RM98-9,002, REVISION OF EXISTING REGULATIONS UNDER PART 157 AND RELATED SECTIONS OF THE COMMISSION'S REGULATIONS UNDER THE NATURAL GAS ACT

Hydro Agenda

H-1.

RESERVED

Electric Agenda

E-1.

DOCKET# RM99-2,001, REGIONAL TRANSMISSION ORGANIZATIONS

Order on Rehearing.

E-2.

DOCKET# ER00-448,000, MIDWEST INDEPENDENT TRANSMISSION SYSTEM OPERATOR, INC.

OTHER#S EL00-25,000, COMMONWEALTH EDISON COMPANY, COMMONWEALTH EDISON COMPANY OF INDIANA, INC. IES UTILITIES INC. INTERSTATE POWER COMPANY AND MIDAMERICAN ENERGY COMPANY

Order on petition for declaratory order and amendment.

E-3.

DOCKET# EC98-40,000, AMERICAN ELECTRIC POWER COMPANY AND CENTRAL AND SOUTH WEST CORPORATION

OTHER# ER98-2,770,000, AMERICAN ELECTRIC POWER COMPANY AND CENTRAL AND SOUTH WEST CORPORATION

ER98-2,786,000 AMERICAN ELECTRIC POWER COMPANY AND CENTRAL AND SOUTH WEST CORPORATION

Opinion and order on merger.

E-4.

DOCKET# RM95-9,003, OPEN ACCESS SAME-TIME INFORMATION SYSTEM AND STANDARDS OF CONDUCT

Order on Final Rule.

Oil and Gas Agenda

I.

PIPELINE RATE MATTERS

PR-1.

RESERVED

II.

PIPELINE CERTIFICATE MATTERS

PC-1.

RESERVED

David P. Boergers,
Secretary.

[FR Doc. 00-4313 Filed 2-17-00; 4:38 pm]

BILLING CODE 6717-01-P